SECURITIES AND EXCHANGE COMMISSION

[File No. 500-1]

In the Matter of Icon Public Ltd. Co.; Order Withdrawing Trading Suspension

October 22, 2014.

The Securities and Exchange Commission hereby withdraws the trading suspension order as to the securities of Icon Public Ltd. Co. (“ICLR”) entered October 22, 2014 (“October 22, 2014 Order”).

This order shall be effective immediately.
By the Commission.
Kevin M. O'Neill,
Deputy Secretary.

[FR Doc. 2014-25576 Filed 10-27-14; 8:45 am]

BILLING CODE 8011-01-P